DEPARTMENT OF HEALTH AND HUMAN SERVICES

Health Resources and Services Administration

Agency Information Collection Activities: Proposed Collection: Public Comment Request Information Collection Request Title: The HRSA Community-Based Outreach Reporting Module, OMB #0906-0064, Revision

AGENCY: Health Resources and Services Administration (HRSA), Department of Health and Human Services.

ACTION: Notice.

SUMMARY: HRSA at the U.S. Department of Health and Human Services (HHS) requests a revision to the data collection for the Community-Based Workforce for COVID-19 Vaccine Outreach Programs (CBO Programs) (OMB # 0906-0064). In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this Notice has closed.

DATES: Comments on this ICR should be received no later than November 1, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request a copy of the clearance requests submitted to OMB for review, email Samantha Miller, the HRSA Information Collection Clearance Officer at paperwork@hrsa.gov or call (301) 443-9094.

SUPPLEMENTARY INFORMATION: Information Collection Request Title: The HRSA Community-Based Outreach Reporting Module, OMB # 0906-0064, Revision.

Abstract: HRSA requests approval of a revision to the current emergency ICR to continue data collection for the Community-Based Workforce for COVID-19 Vaccine Outreach Programs (CBO Programs), which support nonprofit private or public organizations to establish, expand, and sustain a public health workforce to prevent, prepare for, and respond to COVID-19. This data is needed to comply with requirements to monitor funds distributed under the American Rescue Plan Act of 2021 and in accordance with OMB Memorandum M-21-20.

A 60-day Notice was published in the Federal Register (vol. 86, FR pp. 45739 (August 16, 2021)). There were no public comments.

Need and Proposed Use of the Information: HRSA is requesting approval from OMB for a revision to the current emergency data collection module to support the HRSA Health Systems Bureau (HSB) and Office of Planning, Analysis, and Evaluation (OPAE) requirements to monitor and report on funds distributed. As part of the American Rescue Plan Act of 2021, signed into law on March 11, 2021 (Pub. L. 117-2), HRSA will award $250 million to develop and support a community-based workforce that will engage in locally tailored efforts to build vaccine confidence and bolster COVID-19 vaccinations in underserved communities. In July and August 2021, under the CBO Programs HRSA expects to award funding to over 100 organizations, including those comprising community health workers, patient navigators, and social support specialists. These organizations are responsible for educating and assisting individuals in accessing and receiving COVID-19 vaccinations. This includes activities such as conducting direct face-to-face outreach and other forms of direct outreach to community members to educate them about the vaccine, assisting individuals in making a vaccine appointment, providing resources to find convenient vaccine locations, and assisting individuals with transportation or other needs to get to a vaccination site. The program will address persistent health disparities by offering support and resources to vulnerable and medically underserved communities, including racial and ethnic minority groups and individuals living in areas of high social vulnerability.

HRSA is proposing a new data reporting module—the Community-Based Vaccine Outreach Program Reporting Module—to collect information on CBO Program-funded activities. The CBO Program will collect monthly progress report data from funded organizations. This data will be related to the public health workforce developed, the vaccine outreach performed by this workforce, including the distribution of vaccine booster shots (a new addition to the data collection plan since the 60-day notice was released), and the vaccination rate by this workforce in a manner that assesses equitable access to vaccine services and whether the most vulnerable populations and communities are reached. This data will allow HRSA to clearly identify how the funds are being used and monitored throughout the period of performance and to ensure that high-need populations are being reached and vaccinated. Responses to some data requirements are only reported during the initial reporting cycle (e.g., the name, location, affiliation, etc. of the individual supporting community outreach), though respondents may update the data should any of that change during the duration of the reporting period.

Likely Respondents: Respondents are community outreach workers employed by entities supported by HRSA grant funding over a period of either 6 months (HRSA-21-136) or 12 months (HRSA-21-140).

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of unique organizations funded through the two programs | Number of respondents | Number of responses per respondent | Total responses | Average burden per response (in hours) | Total burden hours
Community outreach worker profile form | 10 cooperative agreement awards for HRSA-21-136 and 121 grant awards for HRSA-21-136 | Total number of Community outreach workers deployed through the work of the two programs | One response per respondent | Reported once across the duration of the programs (the period of performance for HRSA-21-136 is 6 months, and for HRSA-21-140 is 12 months) | Sampled response times of approximately 15 minutes per response | Total hours spent on responses for all funded organizations over a 2-year period.
| 131 (est.) | 3,000 (est.) | 1 | 3,000 | 0.27 | 800.

Form name | Number of community outreach workers | Number of respondents over the period of the programs | Number of responses per respondent | Total responses | Average burden per response (in hours) | Total burden hours
Vaccine-site data—outreach to community members form | Number of community outreach workers deployed for 6 months (HRSA-21-136) or 12 months (HRSA-21-140) of support | Number of community members in contact with community outreach workers | One response per respondent or less (e.g., one response from the audience of a group outreach event) | Reported once across the duration of the programs (the period of performance for HRSA-21-136 is 6 months, and for HRSA-21-140 is 12 months) | Sampled response times of approximately 6 minutes per response | Total hours spent on responses for all funded organizations over a 2-year period.
| 3,000 (est.) | 4,000,000 (est.) | 1 | 4,000,000 | 0.12 | 466,667.
General outreach activities for community members form | Number of community outreach workers deployed for 6 months (HRSA-21-136) or 12 months (HRSA-21-140) of support | Number of community members in contact with community outreach workers | One response per respondent or less (e.g., one response from the audience of a group outreach event) | Reported once across the duration of the programs (the period of performance for HRSA-21-136 is 6 months, and for HRSA-21-140 is 12 months) | Sampled response times of approximately 6 minutes per response | Total hours spent on responses for all funded organizations over a 2-year period.
| 3,000 (est.) | 4,000,000 (est.) | 1 | 4,000,000 | 0.12 | 466,667.
Vaccine-site data—outreach to community members form—booster shots only | Number of community outreach workers deployed for 6 months (HRSA-21-136) or 12 months (HRSA-21-140) of support | Number of community members in contact with community outreach workers | One response per respondent or less (e.g., one response from the audience of a group outreach event) | Reported once across the duration of the programs (the period of performance for HRSA-21-136 is 6 months, and for HRSA-21-140 is 12 months) | Sampled response times of approximately 6 minutes per response | Total hours spent on responses for all funded organizations over a 2-year period.
| 3,000 (est.) | 4,000,000 (est.) | 1 | 4,000,000 | 0.12 | 466,667.
Grand Total | 12,003,000 (est.) |  |  | 12,003,000 (est.) |  | 1,400,801.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-21207 Filed 9-29-21; 8:45 am]

BILLING CODE 4165-15-P